DEPARTMENT OF JUSTICE

[OMB Number 1140-0070]

Agency Information Collection Activities; Proposed eCollection eComments Requested; Revision of a Previously Approved Collection Application for Explosives License or Permit—ATF Form 5400.13/5400.16

AGENCY: Bureau of Alcohol, Tobacco, Firearms and Explosives, Department of Justice.

ACTION: 60-Day notice.

SUMMARY: The Bureau of Alcohol, Tobacco, Firearms and Explosives, U.S. Department of Justice, is submitting the following information collection request to the Office of Management and Budget (OMB) for review and approval in accordance with the Paperwork Reduction Act of 1995.

DATES: The Department of Justice encourages public comment and will accept input until June 26, 2023.

FOR FURTHER INFORMATION CONTACT: If you have additional comments including on the estimated public burden or associated response time, suggestions, or need a copy of the proposed information collection instrument with instructions or additional information, please contact Shawn Stevens, Explosives Industry Liaison, Federal Explosives Licensing Center, either by mail at 244 Needy Road, Martinsburg, WV 25405, by email at Shawn.Stevens@atf.gov, or by telephone at 304-616-4400.

SUPPLEMENTARY INFORMATION: Written comments and suggestions from the public and affected agencies concerning the proposed collection of information are encouraged. Your comments should address one or more of the following four points:

—Evaluate whether the proposed collection of information is necessary for the proper performance of the functions of the National Security Division, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: Per 18 U.S.C. 845 (Licenses and user permits) applicants must submit ATF Form 5400.13/5400.16 to determine if the applicant is qualified to be a licensee or permittee under the provisions of the statute. The form will be submitted to ATF to determine whether the person who provided the information, is qualified to be issued a license or permit. The information collection (IC) OMB 1140-0070 (Application for Explosives License or Permit—ATF F 5400.13/5400.16) is being revised due to material changes to the form, such as a revised format and layout to improve user experience, removal of the Responsible Persons List along with accompanying sections, removal of the Explosives Storage Magazine Description Worksheet and replaced with a condensed version as a question.

Overview of This Information Collection

(1) Type of Information Collection: Revision of a currently approved collection.

(2) The Title of the Form/Collection: Application for Explosives License or Permit—ATF F 5400.13/5400.16

(3) The agency form number, if any, and the applicable component of the Department sponsoring the collection: Form number (if applicable): ATF F 5400.13/5400.16. Component: Bureau of Alcohol, Tobacco, Firearms and Explosives, U.S. Department of Justice.

(4) Affected public who will be asked or required to respond as well as the obligation: Private Sector—business or other for-profit, not-for-profit institutions and individuals or households. The obligation to respond is required to obtain or retain a benefit.

(5) An estimate of the total number of respondents, frequency of responses and the amount of time estimated for an average respondent to respond: An estimated 10,200 respondents will complete this form once annually, and it will take each respondent approximately 1.5 hours to complete their responses.

(6) An estimate of the total public burden (in hours) and annual cost burden associated with the collection: The estimated annual public burden associated with this collection is 15,300 hours which is equal to 10,200 (total respondents) * 1(# of response per respondent) * 1.5 hours (total time taken to prepare each response). The annual cost burden for this collection is $51,600 as the fee associated with the collection ranges between $12-200 per applicant.

Total Annual Burden
Activity | Number of respondents | Frequency | Total annual responses | Time per response | Total annual burden (hours) | Rate for collection | Annual cost burden
ATF Form 5400.13/5400.16 | 10,200 | 1 | 10,200 | 1.5 | 15,300 | $12-200 | $51,600
Unduplicated Totals | 10,200 |  | 10,200 |  | 15,300 |  | 51,600

If additional information is required contact: John R. Carlson, Department Clearance Officer, United States Department of Justice, Justice Management Division, Policy and Planning Staff, Two Constitution Square, 145 N Street NE, 4W-218, Washington, DC 20530.

Dated: April 24, 2023.
John R. Carlson,
Department Clearance Officer for PRA, U.S. Department of Justice.

[FR Doc. 2023-08868 Filed 4-26-23; 8:45 am]

BILLING CODE 4410-PF-P